FEDERAL COMMUNICATIONS COMMISSION

47 CFR Part 73

[DA 02-2150, MB Docket No. 02-102, RM-10430]

Digital Television Broadcast Service; Florence, SD

AGENCY: Federal Communications Commission.

ACTION: Final rule.

SUMMARY: The Commission, at the request of Young Broadcasting of Sioux Falls, Inc., substitutes DTV channel 2 for DTV channel 25 at Florence, South Dakota. See 67 FR 34670, May 15, 2002. DTV channel 2 can be allotted to Florence in compliance with the principle community coverage requirements of Section 73.625(a) at reference coordinates 44-57-56 N. and 97-35-22 W. with a power of 3.7, HAAT of 243 meters and with a DTV service population of 119 thousand. With this action, this proceeding is terminated.

DATES: Effective October 25, 2002.

FOR FURTHER INFORMATION CONTACT: Pam Blumenthal, Media Bureau, (202) 418-1600.

SUPPLEMENTARY INFORMATION: This is a synopsis of the Commission's Report and Order, MB Docket No. 02-102, adopted September 4, 2002, and released September 10, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under South Dakota, is amended by removing DTV channel 25 and adding DTV channel 2 at Florence.

Federal Communications Commission.
Barbara A. Kreisman,
Chief, Video Division, Media Bureau.

[FR Doc. 02-25573 Filed 10-7-02; 8:45 am]

BILLING CODE 6712-01-P